DEPARTMENT OF ENERGY

Federal Energy Regulatory Commission

[Docket No. EL02-107-000]

Duke Energy Hinds, LLC, Duke Energy Hot Spring, LLC, Duke Energy Southaven, LLC, Duke Energy North America, LLC, Complainants, v. Entergy Services, Inc. Entergy Operating Companies, Respondents; Notice of Complaint

July 12, 2002.

Take notice that on July 10, 2002, Duke Energy Hinds, LLC (Duke Hinds), Duke Energy Hot Spring, LLC (Duke Hot Spring), Duke Energy Southaven, LLC (Duke Southaven), and Duke Energy North America, LLC (collectively, DENA) filed a Complaint against the Entergy Operating Companies and Entergy Services, Inc. (Entergy Services) (collectively, Entergy). The Complaint asserts that Entergy, in violation of its Open Access Transmission Tariff (OATT) and Commission pricing policy, has unjustly and unreasonably double-charged for transmission service by charging a rate based on both the network average embedded costs and incremental costs. Moreover, Entergy is unjustly and unreasonably failing to provide interest on the funds advanced by DENA for various network upgrades.

Copies of the Complaint have been served by e-mail, messenger, or overnight delivery on Entergy.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before July 30, 2002, will be considered by the Commission in determining the appropriate action to be taken, but will not serve to make protestants parties to the proceeding. Any person wishing to become a party must file a motion to intervene. Answers to the complaint shall also be due on or before July 30, 2002. Copies of this filing are on file with the Commission and are available for public inspection. This filing may also be viewed on the Web at http://www.ferc.gov using the “RIMS” link, select “Docket#” and follow the instructions (call 202-208-2222 for assistance). Comments, protests, interventions and answers may be filed electronically via the Internet in lieu of paper. See, 18 CFR 385.2001(a)(1)(iii) and the instructions on the Commission's Web site under the “e-Filing” link.

Linwood A. Watson, Jr.,
Deputy Secretary.

[FR Doc. 02-18084 Filed 7-17-02; 8:45 am]

BILLING CODE 6717-01-P